Title 3—

The President

Memorandum of September 12, 2011

Delegation Under Section 2(A) of the Special Agent Samuel Hicks Families of Fallen Heroes Act

Memorandum for the Administrator of General Services

By the authority vested in me as President by the Constitution and the laws of the United States of America, including section 301 of title 3, United States Code, I hereby delegate to you the function conferred upon the President by section 2(a) of the Special Agent Samuel Hicks Families of Fallen Heroes Act (Public Law 111-178) to prescribe the applicable regulations.

You are authorized and directed to publish this memorandum in the Federal Register.

THE WHITE HOUSE,

Washington, September 12, 2011

[FR Doc. 2011-23937

Filed 9-14-11; 11:15 am]

Billing code 6820-34-P